DEPARTMENT OF THE INTERIOR

National Park Service

[NPS-WASO-NAGPRA-NPS0037569; PPWOCRADN0-PCU00RP14.R50000]

Notice of Inventory Completion: California State University, Sacramento, Sacramento, CA and East Bay Municipal Utility District, Oakland, CA

AGENCY: National Park Service, Interior.

ACTION: Notice.

SUMMARY: In accordance with the Native American Graves Protection and Repatriation Act (NAGPRA), the California State University, Sacramento and East Bay Municipal Utility District (EBMUD) have completed an inventory of human remains and associated funerary objects and has determined that there is a cultural affiliation between the human remains and associated funerary objects and Indian Tribes or Native Hawaiian organizations in this notice.

DATES: Repatriation of the human remains and associated funerary objects in this notice may occur on or after April 8, 2024.

ADDRESSES: Dr. Mark Wheeler, Chief of Staff to President Luke Wood, California State University, Sacramento, 6000 J Street, Sacramento, CA 95819, telephone (916) 460-0490, email mark.wheeler@csus.edu and Chuck Beckman, Manager of Watershed and Recreation, East Bay Municipal Utility District, 15083 Camanche Parkway South, Valley Springs, CA 95252, telephone (209) 772-8203, email 1847charles.beckman@ebmud.com.

SUPPLEMENTARY INFORMATION: This notice is published as part of the National Park Service's administrative responsibilities under NAGPRA. The determinations in this notice are the sole responsibility of California State University, Sacramento and EBMUD, and additional information on the determinations in this notice, including the results of consultation, can be found in the inventory or related records. The National Park Service is not responsible for the determinations in this notice.

Abstract of Information Available

In 1959 and 1960s, human remains representing, at minimum, three individuals were removed from CA-AMA-03 (also known as Bamert Cave), by students of Sacramento State College (now California State University, Sacramento) under the direction of William Beeson. The collections have been housed at California State University, Sacramento since this excavation. Occupation of the site is estimated to have occurred during the Late Prehistoric into Historic periods. No known individuals were identified. The 6,457 associated funerary objects removed from this site includes flaked stone, groundstone, modified bone, modified wood, modified stone, modified shell, textiles, floral remains, basketry fragments, faunal remains, historic materials, pigment, unmodified stone, geologic samples, and soil samples. Of this number, 11 objects are currently missing from the collection. California State University, Sacramento continues to look for these 11 missing objects.

In 1963, human remains representing, at minimum, seven individuals were removed from CA-AMA-23 (also known as China Gulch) by a Sacramento State College (now California State University, Sacramento) field class under the direction of Patti Palumbo and William Beeson. The collection has been housed at California State University, Sacramento since this excavation. Occupation of the site is estimated to have occurred during the Late Prehistoric into Historic periods, though there is some evidence of an earlier occupation. No known individuals were identified. The 11,932 associated funerary objects removed from this site includes flaked stone, groundstone, thermally-altered rock, modified bone, modified stone, modified shell, floral remains, faunal remains, historic materials, pigment, unmodified stone, geologic samples, and soil samples.

In 1963, human remains representing, at minimum, two individuals were removed from CA-AMA-49 (also known as Big Cave and China Gulch Cave) by Sacramento State College (now California State University, Sacramento) students under the direction of Jerald J. Johnson. The collection has been housed at California State University, Sacramento since this excavation. Occupation of the site is estimated to have occurred during the Late Prehistoric into Historic periods, though there is some evidence of an earlier occupation. No known individuals were identified. The 2,087 associated funerary objects removed from this site includes flaked stone, modified bone, modified stone, modified shell, floral remains, faunal remains, historic materials, unmodified stone, and coprolites.

In 1960, human remains representing, at minimum, one individual were removed from CA-AMA-70 (also known as the Goins site) by a Sacramento State College (now California State University, Sacramento) field class under the direction of William Beeson. The collection has been housed at California State University, Sacramento since this excavation. Occupation of the site is not known, though there is clear evidence of use during the Historic period. No known individuals were identified. The 376 associated funerary objects removed from this site includes flaked stone, groundstone, modified shell, floral remains, faunal remains, historic materials, unmodified stone, pigment, thermally-altered rock, geologic samples, and soil samples. Of this number, 24 objects are currently missing from the collection. California State University, Sacramento continues to look for these 24 missing objects.

In 1963, human remains representing, at minimum, 18 individuals were removed from CA-AMA-91 (also known as the Dier site) by a Sacramento State College (now California State University, Sacramento) field class with other students from American River College and community volunteers under contract with EBMUD. The collection has been housed at California State University, Sacramento since this excavation. Occupation of the site is estimated to have occurred during the Late Prehistoric into Historic periods, though there is some evidence of an earlier occupation. No known individuals were identified. The 5,511 associated funerary objects removed from this site include baked clay, flaked stone, groundstone, modified bone, modified stone, modified shell, floral remains, faunal remains, historic materials, pigment, unmodified stone, clay insect nest, and soil samples.

Cultural Affiliation

Based on the information available and the results of consultation, cultural affiliation is clearly identified by the information available about the human remains and associated funerary objects described in this notice.

Determinations

California State University, Sacramento and EBMUD have determined that:

• The human remains described in this notice represent the physical remains of 31 individuals of Native American ancestry.

• The 26,363 objects described in this notice are reasonably believed to have been placed with or near individual human remains at the time of death or later as part of the death rite or ceremony.

• There is a reasonable connection between the human remains and associated funerary objects described in this notice and the Buena Vista Rancheria of Me-Wuk Indians of California; California Valley Miwok Tribe, California; Chicken Ranch Rancheria of Me-Wuk Indians of California; Ione Band of Miwok Indians of California; Jackson Band of Miwuk Indians; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 8, 2024. If competing requests for repatriation are received, California State University, Sacramento and EBMUD must determine the most appropriate requestor prior to repatriation. Requests for joint repatriation of the human remains and associated funerary objects are considered a single request and not competing requests. California State University, Sacramento and EBMUD are responsible for sending a copy of this notice to the Indian Tribes identified in this notice.

Authority: Native American Graves Protection and Repatriation Act, 25 U.S.C. 3003, and the implementing regulations, 43 CFR 10.10.

Dated: February 29, 2024.
Melanie O'Brien,
Manager, National NAGPRA Program.

[FR Doc. 2024-04992 Filed 3-7-24; 8:45 am]

BILLING CODE 4312-52-P